DEPARTMENT OF VETERANS AFFAIRS

Privacy Act of 1974; System of Records

AGENCY: Department of Veterans Affairs (VA), National Cemetery Administration (NCA).

ACTION: Notice of a modified system of records.

SUMMARY: Pursuant to the Privacy Act of 1974, notice is hereby given that VA is modifying the system of records in its inventory titled, “Veterans and Dependents National Cemetery Interment Records-VA” (42VA41). This system contains information related to Veterans and their dependents who have been interred in an NCA cemetery, state cemetery or tribal cemetery.

DATES: Comments on this modified system of records must be received no later than 30 days after date of publication in the Federal Register. If no public comment is received during the period allowed for comment or unless otherwise published in the Federal Register by VA, the modified system of records will become effective a minimum of 30 days after date of publication in the Federal Register. If VA receives public comments, VA shall review the comments to determine whether any changes to the notice are necessary.

ADDRESSES: Comments may be submitted through www.Regulations.gov or mailed to VA Privacy Service, 810 Vermont Avenue NW, (005X6F), Washington, DC 20420. Comments should indicate that they are submitted in response to “Veterans and Dependents National Cemetery Interment Records-VA” (42VA41). Comments received will be available at regulations.gov for public viewing, inspection or copies.

FOR FURTHER INFORMATION CONTACT: Cindy Merritt, NCA Privacy Officer (43E), Department of Veterans Affairs, 810 Vermont Avenue NW, Washington, DC 20420, 321-200-7477 (this is not a toll-free number), cindy.merritt@va.gov.

SUPPLEMENTARY INFORMATION: VA is amending the system of records by revising the Purpose of the System; Categories of Individuals Covered by the System; Categories of Records in the System; Record Source Categories; Routine Uses of Records Maintained in the System; Policies and Practices for Storage of Records; Policies and Practices for Retrieval of Records; Policies and Practices for Retention and Disposal of Records; Administrative, Technical, and Physical Safeguards; Record Access Procedures; Contesting Record Procedures; and Notification Procedures. VA is republishing the system notice in its entirety.

The system of records will now include a Purpose section. The Purpose will state “The purposes for which the records are used include: provision of VA burial and memorial benefits; provision of information about VA burial and memorial benefits, including specific claims; determination of eligibility for burial in a VA national cemetery; disclosure of military service information upon request from VA-funded state and tribal Veterans cemeteries; coordination of committal services and interments upon request of families, funeral homes, and others of eligible decedents at VA national cemeteries; investigations of potential bars to benefits for otherwise eligible individuals; providing a repository for military, personal, and administrative information that is collected, retrieved, and disclosed to authorized individuals related to burials in a VA national cemetery. Information contained in this system of records may also be used as an aggregate, non-personally identifiable set to track, evaluate, and report on local and national benefits initiatives, such as cemetery development and emerging burial needs.”

Categories of Individuals Covered by the System is being amended to remove current language and include “The records contain information on Veterans, dependents and family members of Veterans, Service members, family members of Service members, Reservists and Retirees (Active Duty, Reserves or National Guard), other VA customers such as attorneys, agents, Veterans Service Organizations, funeral directors, coroners, Missing in America Project (MIAP) volunteers), State and local governmental administrators, and VA authorized users permitted by VA to access VA IT systems.

Categories of Records in the System is being amended to remove current language and include “Records may contain demographics and personal identifiers such as names, mailing addresses, email addresses, phone numbers, social security numbers, VA claim numbers, military service numbers, date of birth, place of birth, date of death, gender, marital records, health records and health related information. Records may also contain socioeconomic characteristics such as education and training, military employment information, as well as military service information such as dates of active duty, dates of active duty for training, military service numbers, branch of service including Reserves or National Guard service, locations of service for National Guard, dates of entry, enlistment, or discharge, type and character of discharge, rank, awards, decorations and other military history and information.

Record Source Categories is being amended to remove current language and include “Information in this system of records is provided by Veterans, Veteran beneficiaries, Veteran dependents, members of the Armed Forces of the United States, including Reserves and National Guard, and their beneficiaries, other individuals such as funeral home directors, coroners, medical examiners initiating eligibility determinations on behalf of claimants, VA employees, other VA authorized users (e.g., Department of Defense, State and Tribal government employees), other VA IT systems and databases, VA claims records and official military records IT systems.

VA is proposing the following routine use disclosures of information to be maintained in the system: Congress; Data Breach Response and Remediation, for VA; Data Breach Response and Remediation for Another Federal Agency; Law Enforcement; Department of Justice (DoJ), for Litigation of Administrative Proceeding; Contractors; Office of Personnel Management (OPM); Equal Employment Opportunity Commission (EEOC); Federal Labor Relations Authority (FLRA); Merit Systems Protection Board (MSPB); National Archives and Records Administration (NARA); Funeral Homes for Arrangements; Federal Agencies for Research; Federal Agencies for Computer Matches; Federal Agencies, Courts, Litigants for Litigation or Administrative Proceedings; Former Employee or Contractor, Representative, for EEOC; Former Employee or Contractor, Representative for MSPB, Office of Special Counsel (OSC); and Governmental Agencies, Health Organizations for Claimants' Benefits.

Policies and Practices for Storage of Records is being amended to remove current language and include “Records in this system are maintained in paper, electronic and microfilm formats.”

Policies and Practices for Retrieval of Records is being amended to remove current language and include “Records are retrieved by name only; name and one or more numbers (i.e., military service number or social security number); name and one or more criteria (e.g., date of birth or dates of service); VA claim number; or other VA or NCA assigned identifier.”

Records in this system are retained in accordance with records retention standards approved by the Archivist of the United States, National Cemetery Records, N1-15-99-4. Permanent records are electronically stored and retained in VA IT systems.

The Administrative, Technical, and Physical Safeguard section is being amended to include “Information in this proposed system of records will be protected from unauthorized access through administrative, physical, and technical safeguards. Access to the hard copy and computerized information will be restricted to VA employees and VA contractors by means of PIV card and PIN, and/or passwords. VA regulates data access with security software that authenticates users and requires individually unique codes and passwords. VA requires information security training for all staff and instructs staff on the responsibility each person has for safeguarding data confidentiality.

Record Access Procedures is being amended to remove current language and include “Individuals seeking information on the existence and content of records in this system pertaining to them should contact the system manager in writing as indicated above or may write or visit the VA facility location where they normally receive their care. A request for access to records must contain the requester's full name, address, telephone number, be signed by the requester, and describe the records sought in sufficient detail to enable VA personnel to locate them with a reasonable amount of effort.”

Contesting Records Procedures is being amended to remove current language and include “Individuals seeking to contest or amend records in this system pertaining to them should contact the system manager in writing as indicated above or may write or visit the VA facility location where they normally receive their care. A request to contest or amend records must state clearly and concisely what record is being contested, the reasons for contesting it, and the proposed amendment to the record.” The Notification Procedures in the System is amended to remove the current language and include “Generalized notice is provided by the publication of this notice. For specific notice, see Record Access Procedure, above.”

The Report of Intent to Amend a System of Records Notice and an advance copy of the system notice have been sent to the appropriate Congressional committees and to the Director of the Office of Management and Budget (OMB) as required by 5 U.S.C. 552a(r) (Privacy Act) and guidelines issued by OMB (65 FR 77677), December 12, 2000.

Signing Authority

The Senior Agency Official for Privacy, or designee, approved this document and authorized the undersigned to sign and submit the document to the Office of the Federal Register for publication electronically as an official document of the Department of Veterans Affairs. Kurt D. DelBene, Assistant Secretary for Information and Technology and Chief Information Officer, approved this document on August 7, 2023 for publication.

Dated: September 12, 2023.
Amy L. Rose,
Government Information Specialist, VA Privacy Service, Office of Compliance, Risk and Remediation, Office of Information and Technology, Department of Veterans Affairs.

SYSTEM NAME AND NUMBER:

Veterans and Dependents National Cemetery Interment Records-VA (42VA41).

SECURITY CLASSIFICATION:

Unclassified.

SYSTEM LOCATION:

Records are maintained at the National Cemetery Administration (41), VA Central Office, Washington, DC 20420.

SYSTEM MANAGER(S):

Lisa Pozzebon, Executive Director of Cemetery Operations (41A), National Cemetery Administration, VA Central Office, 810 Vermont Avenue NW, Washington, DC 20420, telephone 202-461-0265, ncaprivacy@va.gov.

AUTHORITY FOR MAINTENANCE OF THE SYSTEM:

38 U.S.C. 2402.

PURPOSE(S) OF THE SYSTEM:

The purposes for which the records are used include: provision of VA burial and memorial benefits; provision of information about VA burial and memorial benefits, including specific claims; determination of eligibility for burial in a VA national cemetery; disclosure of military service information upon request from VA-funded state and tribal Veterans' cemeteries; coordination of committal services and interments upon request of families, funeral homes, and others of eligible decedents at VA national cemeteries; investigation of potential bars to benefits for an otherwise eligible individual; providing a repository for military, personal, and administrative information that is collected, retrieved, and disclosed to authorized individuals related to burials in a VA national cemetery. Information contained in this system of records may also be used as an aggregate, non-personally identifiable set to track, evaluate, and report on local and national benefits initiatives, such as cemetery development and emerging burial needs.

CATEGORIES OF INDIVIDUALS COVERED BY THE SYSTEM:

The records contain information on Veterans, dependents and family members of Veterans; Service members; family members of Service members; Reservists and Retirees (Active Duty, Reserves or National Guard); other VA customers such as attorneys, agents, Veterans Service Organizations, funeral directors, coroners, Missing in America Project (MIAP) volunteers); State and local governmental administrators, and VA authorized users permitted by VA to access VA IT systems.

CATEGORIES OF RECORDS IN THE SYSTEM:

Records may contain demographics and personal identifiers such as names, mailing addresses, email addresses, phone numbers, social security numbers, VA claim numbers, military service numbers, date of birth, place of birth, date of death, gender, marital records, health records and health related information. Records may also contain socioeconomic characteristics such as education and training, military employment information, as well as military service information such as dates of active duty, dates of active duty for training, military service numbers, branch of service including Reserves or National Guard service, locations of service for National Guard, dates of entry, enlistment, or discharge, type and character of discharge, rank, awards, decorations and other military history and information.

RECORD SOURCE CATEGORIES:

Information in this system of records is provided by Veterans; Veteran beneficiaries; Veteran dependents; members of the Armed Forces of the United States, including Reserves and National Guard, and their beneficiaries; other individuals such as funeral home directors, coroners, medical examiners initiating eligibility determinations on behalf of claimants; VA employees; other VA authorized users (e.g., Department of Defense, State and Tribal government employees); other VA IT systems and databases; VA claims records; and official military records IT systems.

ROUTINE USES OF RECORDS MAINTAINED IN THE SYSTEM, INCLUDING CATEGORIES OF USERS AND PURPOSES OF SUCH USES:

1. Congress: To a Member of Congress or staff acting upon the Member's behalf when the Member or staff requests the information on behalf of, and at the request of, the individual who is the subject of the record.

2. Data Breach Response and Remediation for VA: To appropriate agencies, entities, and persons when (1) VA suspects or has confirmed that there has been a breach of the system of records; (2) VA has determined that as a result of the suspected or confirmed breach there is a risk of harm to individuals, VA (including its information systems, programs, and operations), the Federal Government, or national security; and (3) the disclosure made to such agencies, entities, and persons is reasonably necessary to assist in connection with VA's efforts to respond to the suspected or confirmed breach or to prevent, minimize, or remedy such harm.

3. Data Breach Response and Remediation for Another Federal Agency: To another Federal agency or Federal entity when VA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

4. Law Enforcement: To a Federal, state, local, territorial, tribal, or foreign law enforcement authority or other appropriate entity charged with the responsibility of investigating or prosecuting such violation or charged with enforcing or implementing such law, provided that the disclosure is limited to information that, either alone or in conjunction with other information, indicates a violation or potential violation of law, whether civil, criminal, or regulatory in nature. The disclosure of the names and addresses of Veterans and their dependents from VA records under this routine use must also comply with the provisions of 38 U.S.C. 5701.

5. Department of Justice (DoJ) for Litigation or Administrative Proceeding: To the DoJ, or in a proceeding before a court, adjudicative body, or other administrative body before which VA is authorized to appear, when:

(a) VA or any component thereof:

(b) Any VA employee in his or her official capacity;

(c) Any VA employee in his or her individual capacity where DoJ has agreed to represent the employee; or

(d) The United States, where VA determines that litigation is likely to affect the agency or any of its components, is a party to such proceedings or has an interest in such proceedings, and VA determines that use of such records is relevant and necessary to the proceedings.

6. Contractors: To contractors, grantees, experts, consultants, students, and others performing or working on a contract, service, grant, cooperative agreement, or other assignment for VA, when reasonably necessary to accomplish an agency function related to the records.

7. Office of Personnel Management (OPM): To OPM in connection with the application or effect of civil service laws, rules, regulations, or OPM guidelines in particular situations.

8. Equal Employment Opportunity Commission (EEOC): To the EEOC in connection with investigations of alleged or possible discriminatory practices, examination of Federal affirmative employment programs, or other functions of the Commission as authorized by law.

9. Federal Labor Relations Authority (FLRA): To the FLRA in connection with the investigation and resolution of allegations of unfair labor practices, the resolution of exceptions to arbitration awards when a question of material fact is raised, matters before the Federal Service Impasses Panel, and the investigation of representation petitions and the conduct or supervision of representation elections.

10. Merit Systems Protection Board (MSPB): To the MSPB in connection with appeals, special studies of the civil service and other merit systems, review of rules and regulations, investigation of alleged or possible prohibited personnel practices, and such other functions promulgated in 5 U.S.C. 1205 and 1206, or as authorized by law.

11. National Archives and Records Administration (NARA): To NARA in records management inspections conducted under 44 U.S.C. 2904 and 2906, or other functions authorized by laws and policies governing NARA operations and VA records management responsibilities.

12. Funeral Homes for Arrangements: To funeral directors or representatives of funeral homes for them to make necessary arrangements prior to and in anticipation of a veteran's impending death.

13. Federal Agencies for Research: To a federal agency for the purpose of conducting research and data analysis to perform a statutory purpose of that federal agency upon the written request of that agency.

14. Federal Agencies for Computer Matches: To other federal agencies for the purpose of conducting computer matches to obtain information to determine or verify eligibility of Veterans receiving VA benefits or medical care under title 38.

15. Federal Agencies, Courts, Litigants for Litigation or Administrative Proceedings: To another federal agency, court, or party in litigation before a court or in an administrative proceeding conducted by a federal agency when the government is a party to the judicial or administrative proceeding.

16. Former Employee or Contractor, Representative for EEOC: To a former VA employee or contractor, as well as the authorized representative of a current or former employee or contractor of VA, in connection with investigations by EEOC pertaining to alleged or possible discrimination practices, examinations of Federal affirmative employment programs, or other functions of the Commission as authorized by law or regulation.

17. Former Employee or Contractor, Representative, for MSPB, Office of the Special Counsel (OSC): To a former VA employee or contractor, as well as the authorized representative of a current or former employee or contractor of VA, in proceedings before the MSPB or the OSC in connection with appeals, special studies of the civil service and other merit systems, review of rules and regulations, investigation of alleged or possible prohibited personnel practices, and such other functions promulgated in 5 U.S.C. 1205 and 1206, or as otherwise authorized by law.

18. Governmental Agencies, Health Organizations for Claimants' Benefits: VA to federal, state, and local government agencies and national health organizations as reasonably necessary to assist in the development of programs that will be beneficial to claimants, to protect their rights under law, and assure that they are receiving all benefits to which they are entitled.

POLICIES AND PRACTICES FOR STORAGE OF RECORDS:

Records in this system are maintained in paper, electronic and microfilm formats.

POLICIES AND PRACTICES FOR RETRIEVAL OF RECORDS:

Records are retrieved by name only; name and one or more numbers (i.e., military service number or social security number); name and one or more criteria (e.g., date of birth or dates of service); VA claim number; or other VA or NCA assigned identifier.

POLICIES AND PRACTICES FOR RETENTION AND DISPOSAL OF RECORDS:

Records in this system are retained in accordance with records retention standards approved by the Archivist of the United States, NCA Records Control Schedule, N1-15-99-4. Permanent records are electronically stored and retained in VA IT systems.

ADMINISTRATIVE, TECHNICAL, AND PHYSICAL SAFEGUARDS:

Information in the system is protected from unauthorized access through administrative, physical, and technical safeguards. Access to the hard copy and computerized information is restricted to authorized VA employees and VA contractors by means of physical barriers, PIV card and PIN, and/or passwords. Information security officers and system data stewards review and authorize data access requests. VA regulates data access with security software that authenticates users and requires individually unique codes and passwords. VA requires information security training for all staff and instructs staff on the responsibility each person has for safeguarding data confidentiality.

RECORD ACCESS PROCEDURES:

Individuals seeking information on the existence and content of records in this system pertaining to them should contact the system manager in writing as indicated above or may write or visit the VA facility location where they normally receive their care. A request for access to records must contain the requester's full name, address, telephone number, be signed by the requester, and describe the records sought in sufficient detail to enable VA personnel to locate them with a reasonable amount of effort.

CONTESTING RECORD PROCEDURES:

Individuals seeking to contest or amend records in this system pertaining to them should contact the system manager in writing as indicated above or may write or visit the VA facility location where they normally receive their care. A request to contest or amend records must state clearly and concisely what record is being contested, the reasons for contesting it, and the proposed amendment to the record.

NOTIFICATION PROCEDURES:

Generalized notice is provided by the publication of this notice. For specific notice, see Record Access Procedure, above.

EXEMPTIONS PROMULGATED FOR THE SYSTEM:

None.

HISTORY:

The SORN was published prior to 1995.

[FR Doc. 2023-20046 Filed 9-14-23; 8:45 am]

BILLING CODE P